DEPARTMENT OF COMMERCE

National Oceanic and Atmospheric Administration

RIN 0648-XD776

Endangered Species; File No. 19281

AGENCY: National Marine Fisheries Service (NMFS), National Oceanic and Atmospheric Administration (NOAA), Commerce.

ACTION: Notice; receipt of application.

SUMMARY: Notice is hereby given that Dr. Isaac Wirgin, New York University School of Medicine, Department of Environmental Medicine, 57 Old Forge Road, Tuxedo, NY 10987, has applied in due form for a permit to take early life stages (ELS) of endangered, captive shortnose sturgeon (Acipenser brevirostrum) for purposes of scientific research.

DATES: Written, telefaxed, or email comments must be received on or before June 17, 2015.

ADDRESSES: The application and related documents are available for review by selecting “Records Open for Public Comment” from the “Features” box on the Applications and Permits for Protected Species (APPS) home page, https://apps.nmfs.noaa.gov, and then selecting File No. 19281 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Malcolm Mohead or Rosa L. González, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

In directed research with shortnose sturgeon ELS, researchers propose to define the toxic concentrations of the industrial contaminants polychlorinated biphenyl (PCBs) and Dioxin (2,3,7,8-TCDD). Twenty-thousand fertilized embryos of shortnose sturgeon would be imported annually from a Canadian captive source and exposed (2 to 3-day post-fertilization) to graded doses of the above contaminants. The laboratory tests would be run both singly and in combination with 10 different temperatures or varying levels of dissolved oxygen, representing environmental stresses. Surviving progeny would be euthanized after tests are completed each year. The permit would be valid for five years from issuance date.

Dated: May 12, 2015.
Julia Harrison,
Chief, Permits and Conservation Division, Office of Protected Resources, National Marine Fisheries Service.

[FR Doc. 2015-11901 Filed 5-15-15; 8:45 am]

BILLING CODE 3510-22-P